DEPARTMENT OF TRANSPORTATION

Federal Aviation Administration

14 CFR Part 71

[Docket No. FAA-2018-0825; Airspace Docket No. 18-ASO-17]

RIN 2120-AA66

Amendment of Class D and Class E Airspace; Louisville, KY

AGENCY: Federal Aviation Administration (FAA), DOT.

ACTION: Final rule, technical amendment.

SUMMARY: This action amends Class D airspace and Class E surface airspace for Bowman Field Airport, Louisville, KY, by adding the Louisville International Airport Class C exclusionary language into the legal description. The exclusionary language was inadvertently omitted from the final rule published November 1, 2017. This action also makes a minor editorial change to the Louisville, KY, airspace designation and airport name.

DATES: Effective 0901 UTC, September 11, 2018. The Director of the Federal Register approves this incorporation by reference action under title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: John Fornito, Operations Support Group, Eastern Service Center, Federal Aviation Administration, 1701 Columbia Avenue, College Park, GA 30337; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and Class E airspace at Bowman Field Airport, Louisville, KY, to support IFR operations at the airport.

History

The FAA published a final rule in the Federal Register (82 FR 50506; November 1, 2017) for Docket No. FAA-2016-9499 amending Class D airspace, and Class E surface airspace at Bowman Field Airport, Louisville, KY.

Subsequent to publication, the FAA discovered the Louisville Standiford Field Class C airspace exclusionary language was omitted from the Class D legal description of the airport. This rule adds the Class C exclusionary language into the legal descriptions, noting the airport name change to Louisville International Airport.

An editorial change is made that removes the airport name from the Louisville, KY, airspace designation, and the city from the airport name.

Class D airspace and Class E surface airspace designations are published in paragraph 5000, and 6002 of FAA Order 7400.11B dated August 3, 2017, and effective September 15, 2017, which is incorporated by reference in 14 CFR part 71.1. The Class D and E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

This action amends Title 14 Code of Federal Regulations (14 CFR) part 71 by adding to the Class D and Class E surface area legal descriptions for Bowman Field Airport, Louisville, KY, the following text that reads “excluding that portion within the Louisville International Airport Class C airspace area, and excluding that portion south of the 081° bearing from Louisville International Airport, and also excluding that portion north of the Louisville International Airport Class C airspace area and west of a line drawn from lat. 38°11′28″ N long. 85°42′01″ W direct thru the point where the 030° bearing from Louisville International Airport intersects the 5-mile radius from Louisville International Airport to the point of intersection with the 3.9-mile radius from Bowman Field Airport.” This action makes an editorial change to the Louisville, KY, airspace designation by removing the airport name of Bowman Field. This action also removes the city name (Louisville) from the airport name of Bowman Field Airport, to comply with FAA Order 7400.2L, Procedures for Handling Airspace Matters.

Accordingly, action is take herein to add this exclusion of Louisville International Airport Class C airspace to the legal description for Bowman Field Airport, Louisville, KY, in the interest of flight safety. Therefore, I find that notice and public procedure under 5 U.S.C. 553(b) are impracticable and contrary to the public interest.

To avoid confusion on the part of pilots flying in the area of Bowman Field Airport, Louisville, KY, the FAA finds good cause, pursuant to 5 U.S.C. 553(d), for making this rule effective in less than 30 days in order to promote the safe and efficient handling of air traffic in the area.

Regulatory Notices and Analyses

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order 7400.11B, Airspace Designations and Reporting Points, dated August 3, 2017, effective September 15, 2017, is amended as follows:

Paragraph 5000 Class D Airspace.

* * * * *

ASO KY D Louisville, KY [Amended]

Bowman Field Airport, KY

(Lat. 38°13′41″ N, long. 85°39′49″ W)

Louisville International Airport, KY

(Lat. 38°10′27″ N, long. 85°44′11″ W)

That airspace extending upward from the surface to but not including 2,200 feet MSL within a 3.9-mile radius of Bowman Field Airport, excluding that portion within the Louisville International Airport Class C airspace area, and excluding that portion south of the 081° bearing from Louisville International Airport, and also excluding that portion north of the Louisville International Airport Class C airspace area and west of a line drawn from lat. 38°11′28″ N, long. 85°42′01″ W. direct thru the point where the 030° bearing from Louisville International Airport intersects the 5-mile radius from Louisville International Airport to the point of intersection with the 3.9-mile radius from Bowman Field Airport. This Class D airspace area is effective during the specific dates and times established in advance by a Notice to Airmen. The effective date and time will thereafter be continuously published in the Chart Supplement.

Paragraph 6002 Class E Surface Area Airspace.

* * * * *

ASO KY E2 Louisville, KY [Amended]

Bowman Field Airport, KY

(Lat. 38°13′41″ N, long. 85°39′49″ W)

Louisville International Airport, KY

(Lat. 38°10′27″ N, long. 85°44′11″ W) E-104

Within a 3.9-mile radius of Bowman Field Airport, excluding that portion within the Louisville International Airport Field Class C airspace area, and excluding that portion south of the 081° bearing from Louisville International Airport, and also excluding that portion north of the Louisville International Airport Class C airspace area and west of a line drawn from lat. 38°11′28″ N, long. 85°42′01″ W direct thru the point where the 030° bearing from Louisville International Airport intersects the 5-mile radius from Louisville International Airport to the point of intersection with the 3.9-mile radius from Bowman Field Airport. This Class E airspace area is effective during the specific dates and times established in advance by a Notice to Airmen. The effective date and time will thereafter be continuously published in the Chart Supplement.

Issued in College Park, Georgia, on August 29, 2018.
Ryan W. Almasy,
Manager, Operations Support Group, Eastern Service Center, Air Traffic Organization.

[FR Doc. 2018-19490 Filed 9-10-18; 8:45 am]

BILLING CODE 4910-13-P